DEPARTMENT OF LABOR

Employment and Training Administration

[TA-W-63,971]

Trim Masters, Inc., Automotive Technology Systems Division, Including On-Site Leased Workers From Employment Plus and Modern Personnel, Lawrenceville, IL; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on September 22, 2008, applicable to workers of Trim Masters, Inc., Automotive Technology Systems Division Lawrenceville, Illinois. The notice was published in the Federal Register on October 8, 2008 (73 FR 58981).

At the request of the State agency, the Department reviewed the certification for workers of the subject firm. The workers are engaged in the production of automotive interior door panels and seats.

New information shows that workers leased from Employment Plus and Modern Personnel were employed on-site at the Lawrenceville, Illinois location of Trim Masters, Inc., Automotive Technology Systems Division. The Department has determined that these workers were sufficiently under the control of Trim Masters, Inc., Automotive Technology Systems Division to be considered leased workers.

Based on these findings, the Department is amending this certification to include workers leased from Employment Plus and Modern Personnel working on-site at the Lawrenceville, Illinois location of the subject firm.

The intent of the Department's certification is to include all workers employed at Trim Masters, Inc., Automotive Technology Systems Division, Lawrenceville, Illinois who were secondarily affected by increased imports of automotive interior door panels and seats.

The amended notice applicable to TA-W-63,971 is hereby issued as follows:

All workers of Trim Masters, Inc., Automotive Technology Systems Division, including on-site leased workers from Employment Plus and Modern Personnel, Lawrenceville, Illinois, who became totally or partially separated from employment on or after September 2, 2007 through September 22, 2010, are eligible to apply for adjustment assistance under Section 223 of the Trade Act of 1974, and are also eligible to apply for alternative trade adjustment assistance under Section 246 of the Trade Act of 1974.

Signed at Washington, DC this 18th day of February 2009.
Richard Church,
Certifying Officer, Division of Trade Adjustment Assistance.

[FR Doc. E9-4396 Filed 3-2-09; 8:45 am]

BILLING CODE 4510-FN-P